DEPARTMENT OF JUSTICE

Antitrust Division

Notice Pursuant to the National Cooperative Research and Production Act of 1993—Defense Industrial Based Consortium

Notice is hereby given that, on October 18, 2024, pursuant to section 6(a) of the National Cooperative Research and Production Act of 1993, 15 U.S.C. 4301 et seq. (“the Act”), Defense Industrial Based Consortium (“DIBC”) has filed written notifications simultaneously with the Attorney General and the Federal Trade Commission disclosing changes in its membership. The notifications were filed for the purpose of extending the Act's provisions limiting the recovery of antitrust plaintiffs to actual damages under specified circumstances. Specifically, Pison Technology, Inc., Boston, MA; MetalTek International, Waukesha, WI; Sentient Science, Buffalo, NY; Exosonic, Inc., Torrance, CA; Global Circuit Innovations, Inc., Colorado Springs, CO; Keselowski Advanced Manufacturing LLC, Statesville, NC; Mercury Systems, Inc., Andover, MA; W.S. Darley & Co., Itasca, IL; Next Semiconductor Technologies, Inc., San Diego, CA; Raytheon, Tucson, AZ; R-DEX Systems, Inc., Woodstock, GA; Systecon North America, Juno Beach, FL; DuPont Specialty Products USA LLC, Circleville, OH; Foursyte LLC, Ashburn, VA; Kratos Defense & Rocket Support Services, Inc., Huntsville, AL; ACMI Austin LLC, Austin, TX; Adaptive Dynamics, Inc., San Diego, CA; Defense Industry Advisors LLC, St. Petersburg, FL; Intertek Laboratories, Inc., Stirling, NJ; AAPlasma LLC, Philadelphia, PA; ARCTOS Technology Solutions LLC, Beavercreek, OH; Aveox, Inc., Simi Valley, CA; Mission Focused Systems, Inc., Royersford, PA; Nalas Engineering Services, Inc., Centerbrook, CT; Nanohmics, Inc., Austin, TX; Near Earth Autonomy, Inc., Pittsburgh, PA; Ohio Semitronics, Inc., Hilliard, OH; Opto-Knowledge Systems, Inc., Torrance, CA; OToole Tek LLC, Rocky Hill, CT; Physical Sciences, Inc., Andover, MA; SB Technology Federal, Inc., Tarrytown, FL; Signature Science LLC, Austin, TX; Strategic Technology Consulting LLC, Toms River, NJ; Strogen Strategic Sustainability, Washington, DC; Teledyne FLIR Commercial Systems, Goleta, CA; Thomas & Skinner, Inc., Indianapolis, IN; Design West Technologies, Inc., Tustin, CA; Eduworks, Corvallis, OR; Espey Mfg & Electronics Corp., Saratoga Springs, NY; Fabrisonic LLC, Lewis Center, OH; HDT Expeditionary Systems, Inc., Fredericksburg, VA; Hermeus Corp., Atlanta, GA; Idaho Scientific LLC, Boise, ID; Innoveering LLC, Bohemia, NY;

Integra Technologies, Wichita, KS; iWorks Corp., Reston, VA; JR3 Consulting LLC, Huntsville, AL; Leonardo DRS Naval Power Systems, Menomonee Falls, WI; Martinez and Turek, Inc., Rialto, CA; Bath Iron Works Corp., Bath, ME; Battelle Memorial Institute, Columbus, OH; BlackSky Geospatial Solutions, Inc., Herndon, VA; CFD Research Corp., Huntsville, AL; Combustion Research & Flow Technology, Inc., Pipersville, PA; Corvid Technologies LLC, Mooresville, NC; Curtiss-Wright EMD, Cheswick, PA; CVX Instruments LLC, Charlevoix, MI; Delta Development Team, Inc., Tucson, AZ; ADDX Corp., Alexandria, VA; AI Strategy Corp., Babylon, NY; University of Arizona Applied Research Corp., Tucson, AZ; Motorola Solutions, Inc., Chicago, IL;

NAL Research Corp., Manassas, VA; NASCENTechnology Manufacturing, Inc., Watertown, SD; Non-Ferrous Founders Society, Sturgis, MI; Northrop Grumman Systems Corp., McLean, VA; Olin Winchester LLC, Independence, MO; Plasma Processes LLC, Huntsville, AL; Practical Energetics Research, Inc., Huntsville, AL; Production Systems Automation LLC, Duryea, PA; Rebling Plastics, Warrington, PA; Rhoads Industries, Inc., Philadelphia, PA; Russell Technical Consulting Services LLC, Huntsville, AL; SAVIT Corp., Rockaway, NJ; Siemens Government Technologies, Inc., Reston, VA; Skuld LLC, London, OH; Southeastern New England Defense Industry Alliance, Middletown, RI; Southwest Research Institute, San Antonio, TX; The Boeing Company, St Louis, MO; The Johns Hopkins University Applied Physics Laboratory, Laurel, MD; The University of Alabama in Huntsville, Huntsville, AL; Trillium Engineering, Hood River, OR; Barber-Nichols LLC, Arvada, CO; Boarhog LLC, San Diego, CA; Bren-Tronics, Inc., Commack, NY; Concurrent Technologies Corp., Johnstown, PA; CR Access Consulting LLC, Virginia Beach, VA; Crean & Associates, Inc., Lakeway, TX; Cryptic Vector LLC, Liberty Township, OH; ElbitAmerica, Inc., Fort Worth, TX; Elder, Robert James, Shreveport, LA;

Ellwood Material Technologies, New Castle, PA; Empirical Systems Aerospace, Inc., San Luis Obispo, CA; Enduralock LLC, Lenexa, KS; G.D.O., Inc. d/b/a Gradient Technology, Elk River, MN; General Dynamics Ordnance & Tactical Systems, Inc., St. Petersburg, FL; GIRD Systems, Inc., Cincinnati, OH; Granite State Manufacturing, Manchester, NH; Heka Aero LLC, Melbourne, FL; Infinity Systems Engineering, Colorado Springs, CO; Kinnami Software Corp., Braintree, MA; McCormick Stevenson Corp., Clearwater, FL; Allegheny Technologies, Inc., Pittsburgh, PA; Amyris, Inc., Emeryville, CA; AURA Technologies LLC, Carrboro, NC; Parallax Advanced Research, Beavercreek, OH; Questek Innovations LLC, Evanston, IL; Lockheed Martin-Missiles & Fire Control, Orlando, FL; REDLattice, Inc., Chantilly, VA;

Synthio Chemicals, Inc., Broomfield, CO; Booz Allen Hamilton, Inc., McLean, VA; Kratos SRE, Inc., San Diego, CA; US Partnership for Assured Electronics, Washington, DC; VPI Technology, Draper, UT; Nostromo LLC, Kennebunk, ME;

Oceaneering International, Inc., Hanover, MD; Orolia Government Systems, Inc., Rochester, NY; Rocky Mountain Scientific Laboratory, Littleton, CO; Sigma Defense Systems LLC, Perry, GA; SURVICE Engineering Company LLC, Belcamp, MD; Cambium Biomaterials, Inc., Mojave, CA; Castelion Corp., El Segundo, CA; CyKor LLC, Annapolis, MD; D'Angelo Technologies LLC, Beavercreek, OH; Hawk Technologies LLC, Hancock, MI; Integration Innovation, Inc., Huntsville, AL;

Leidos, Inc., Reston, VA; Accipiter Systems, Inc., Wexford, PA; Archem LLC, Shreveport, LA; SCHOTT North America, Inc., Duryea, PA; Big Metal Additive, Denver, CO; Decision Sciences, Inc., Fort Walton Beach, FL; Vega Technology Group LLC, North Canton, OH; W R Systems Ltd., Fairfax, VA; Northrop Grumman Systems Corp.—Armament Systems Business Unit, Plymouth, MN; NWI Defense LLC, Albany, OR; Onyx Aerospace, Huntsville, AL; SRI International, Menlo Park, CA; Texas Research Institute Austin, Inc., Austin, TX; UES, Inc., Dayton, OH; MP Mine Operations LLC, Mountain Pass, CA; Naval Systems, Inc., Lexington Park, MD; Carahsoft Technology Corp., Reston, VA; Excelitas Technologies Corp., Miamisburg, OH; ExoAnalytic Solutions, Inc., Foothill Ranch, CA; Fairbanks Morse LLC, Beloit, WI; GE Vernova Operations LLC, Schenectady, NY; Global Advanced Metals USA, Inc., Boyertown, PA; Guidehouse, Inc., McLean, VA;

Halocarbon LLC, Peachtree Corners, GA; High Side Technology, Johns Island, SC; HII Mission Technologies Corp., McLean, VA; Kratos Space & Missile Defense Systems, Inc., Glen Burnie, MD; Management Services Group, Inc. d/b/a Global Technical Systems, Virginia Beach, VA; Materion Brush, Inc., Elmore, OH; Mattrix Technologies, Gainesville, FL; McKinsey & Company, Washington, DC; Action Engineering LLC, Golden, CO; Amentum Services, Inc., Chantilly, VA; X-Bow Systems, Inc., Albuquerque, NM; MRIGlobal, Kansas City, MO; Mussel Polymers, Inc., Bethlehem, PA; Science Applications International Corp., Reston, VA; Sentient Digital, Inc., New Orleans, LA; Summit Interconnect, Inc., Anaheim, CA; Technology Service Corp. d/b/a TSC, Arlington, VA; The Barnes Global Advisors LLC, Sewickley, PA; Ultra Electronics Ocean Systems, Inc., Braintree, MA; Canopy Aerospace, Inc., Littleton, CO; DKW Consulting LLC, Tallahassee, FL; General Technical Services LLC, Wall Township, NJ; ITL LLC d/b/a ITL Solutions, Hampton, VA;

Manus Bio, Inc., Waltham, MA; University of Florida, Gainesville, FL; Pseudolithic, Inc., Santa Barbara, CA; STI Electronics, Inc., Madison, AL; EnerSys Energy Products, Inc., Warrensburg, MO; GreenSource Fabrication LLC, Charlestown, NH; AeroVironment, Inc., Simi Valley, CA; American Rheinmetall Munitions, Inc., Stafford, VA; Science Spark, Encinitas, CA; Silicon Technologies, Inc., Midvale, UT; Southern Cross Aviation LLC, Fort Lauderdale, FL; Textum OPCO LLC, Belmont, NC; Universal Technical Resource Services, Inc., Cherry Hill, NJ; BC Technical Center LLC d/b/a BC Engineered Products, Morristown, NJ; Bigelow Family Holdings LLC d/b/a Mettle Ops, Sterling Heights, MI; Calumet Electronics Corp., Calumet, MI; GLC Technologies, Inc., Owens Cross Roads, AL; Invariant Corp., Huntsville, AL;

Isola USA Corp., Chandler, AZ; Materials Research & Design, Inc., Wayne, PA; MATSYS, Inc., Sterling, VA; Mentis Sciences, Inc., Warner, NH; Arkham Technology Ltd., Irvine, CA; Zeteo Tech, Inc., Sykesville, MD; Mistral, Inc., Bethesda, MD; Numerica Corp., Fort Collins, CO; Powdermet, Inc., Euclid, OH; Qorvo Texas LLC, Richardson, TX; Saab, Inc., East Syracuse, NY; Terves LLC, Euclid, OH; Colvin Run Networks, Inc., Tysons, VA; CubeCab Co., Mountain View, CA;

EZ-A Consulting LLC, Bel Air, MD; JAKTOOL LLC, Cranbury, NJ; JetCo Solutions LLC, Grand Rapids, MI; Aerojet Rocketdyne, Inc., Huntsville, AL; Astro Machine & Tool Works LLC, Tyler, TX; Nimbis Services, Inc., Oro Valley, AZ; Noble Supply & Logistics LLC, Boston, MA; Olles Applied Research LLC, Hilton, NY; Ozark Integrated Circuits, Inc., Fayetteville, AR; Radiance Technologies, Inc., Huntsville, AL; Thomas Global Systems LLC, Irvine, CA; Cenith Innovations LLC, Sacramento, CA; Duality Systems LLC, Monument, CO; Dynovas, Inc., Poway, CA; Eos Energetics, Inc. d/b/a Estes Energetics, Penrose, CO; International Business Machines Corp. (IBM), Bethesda, MD; Missouri University of Science and Technology, Rolla, MO; Salesforce, San Francisco, CA; Trusted Semiconductor Solutions, Brooklyn Park, MN; Education and Consulting LLC, Phoenix, AZ; GKN Aerospace GTC LLC, Lake Worth, TX; Numat Technologies, Inc., Skokie, IL; Boston Engineering Corp., Waltham, MA; Energetics Technology Center, Inc., Indian Head, MD; Google Public Sector LLC, Reston, VA; Kairos, Inc., California, MD; Nammo Defense Systems, Mesa, AZ;

Aerocyonics, Inc., East Greenwich, RI; VerTechs Enterprise, Inc., El Cajon, CA; Moog, Inc., East Aurora, NY; The Johns Hopkins University, Baltimore, MD; Jayhawk Fine Chemicals Corp., Galena, KS; 3D Glass Solutions, Inc., Albuquerque, NM; EverGlade Consulting LLC, Charleston, SC; Laurel Technologies Partnership d/b/a DRS Laurel Technologies, Johnstown, PA; A.T. Kearney Public Sector and Defense Services LLC, Arlington, VA; UI Labs d/b/a MxD USA, Chicago, IL; Cleveland State University, Cleveland, OH; KIHOMAC, Inc., Reston, VA; NTS Technical Systems d/b/a Element U.S. Space & Defense, Belcamp, MD; Exquadrum, Inc., Victorville, CA; Lygos, Inc., Berkeley, CA; South Dakota School of Mines and Technology, Rapid City, SD; Virginia Tech Applied Research Corp., Arlington, VA; NanoElectronic Imaging, Inc., Riverside, CA; Northrop Grumman Systems Corp.—Mission Systems, Linthicum Heights, MD; NRL & Associates, Stevensville, MD; Domenix Corp., Chantilly, VA; Innovative Technology International, Inc., Lynchburg, VA; New Dominion Enterprises, Inc., San Antonio, TX; Ellis & Watts Global Industries, Inc., Batavia, OH; GLX Power Systems, Inc., Chagrin Falls, OH; Edge Case Research, Inc., Pittsburgh, PA; Hughes Circuits, Inc., San Marcos, CA; Kennametal, Inc., Rodgers, AR; Ursa Major Technologies, Inc., Berthoud, CO; Pratt & Miller Engineering & Fabrication LLC, New Hudson, MI; Spectral Sciences, Inc., Burlington, MA; Captis Aire LLC, East Point, GA; Epsilon Systems Solutions, Inc., San Diego, CA; Munitions Industrial Base Task Force, Inc., Arlington, VA; 10x National Security LLC, Aldie, VA; Checkerspot, Inc., Alameda, CA; Field Propulsion Technologies, Inc., Aurora, CO; Quality Manufacturing Company, Inc., Winchester, KY; Wiley Companies, Coshocton, OH; Proteus Space, Inc., Los Angeles, CA; Anactisis LLC, Pittsburgh, PA; Lacamas Laboratories, Portland, OR; Air Protein, Inc., San Leandro, CA; Applied Research Institute, Inc., Bloomington, IN; Northrop Grumman Systems Corp.—Propulsion Systems, Corinne, UT; Pliant Energy Systems, Inc., Brooklyn, NY; Rapid Innovation & Security Experts, Inc., Colorado Springs, CO; Solugen, Inc., Houston, TX; Bluestem Biosciences, Inc., Omaha, NE; Lumen Bioscience, Inc., Seattle, WA; Modular Genetics, Inc., Lincoln, MA;

Advanced Powder Products, Philipsburg, PA; Cellibre, Inc., San Diego, CA; Fermworx Holdings LLC, Columbus, GA; Stratolaunch LLC, Mojave, CA; Mantel Technologies, Fort Collins, CO; Anduril Industries, Inc., Costa Mesa, CA; Earthly Dynamics LLC, Roswell, GA; Aether Biomachines, Inc., Menlo Park, CA; American Standard Circuits LLC, West Chicago, IL; Santor Security, Inc., Montreal-Nord, CANADA; Space Engine Systems, Inc., Edmonton, CANADA; Binoloop, Inc., Calgary, CANADA; Dreadnought Resources Ltd., Osborne Park, AUSTRALIA; East Tennessee State University Research Foundation, Johnson City, TN; Equispheres, Inc., Kanata, CANADA; Fidelity Machine and Mould Solutions, Calgary, CANADA; Global Circuit Innovations, Inc., Colorado Springs, CO; M1 Composites Technology, Inc., Laval, CANADA; Defense Unicorns, Inc., Colorado Springs, CO; Goodman Technologies LLC, Largo, FL; Agility Technical Solutions LLC, Bee Caves, TX; CCX Technologies, Inc., Ottawa, CANADA; GN Corporations, Inc., Airdrie, CANADA; IMT Partnership, Ingersoll, CANADA; University of British Columbia—Survive and Thrive Applied Research (STAR), Kelowna, CANADA; NHanced Semiconductors, Inc., Batavia, IL; Parts Life, Inc., Moorestown, NJ; Capra Biosciences, Sterling, VA; Kognitiv Spark, Inc., Fredericton, CANADA; Valley Tech Systems, Inc., Folsom, CA; New Trail Corp., Lincoln, MA; Scope Technologies US, Inc., San Francisco, CA; Simulation Technologies, Inc., Huntsville, AL; Clarity Cyber LLC, Linthicum, MD; Danimer Scientific, Inc., Bainbridge, GA; Finless Foods, Emeryville, CA; Gigantor Technologies, Inc., Melbourne Beach, FL; Hanley Industries, Inc. d/b/a Riverbend Energetics, Alton, IL; Magrathea Metals, Inc., San Francisco, CA; Radiation Monitoring Devices, Watertown, MA;

STS International, Berkeley Springs, WV; Blash LLC, Ashland, OH; Cornet Technology, Inc., Springfield, VA;

Edaptive Computing, Inc., Centerville, OH; First Phosphate Corp., Vancouver, CANADA; Noveon Magnetics, Inc., San Marcos, TX; Synonym, Inc., New York, NY; Arcology, Inc., Culver City, CA; MRL Materials Resources LLC, Xenia, OH; Savor Foods Limited, San Jose, CA; SPARC Research LLC, Warrenton, VA; Carlos Maidana d/b/a MAIDANA RESEARCH, Pocatello, ID; CleanJoule, Inc., Salt Lake City, UT; Forge Nano, Thornton, CO; Liberation Labs Holdings, Inc., Richmond, IN; Albany Engineered Composites, Inc., Rochester, NH; Onego Bio, Inc., Palo Alto, CA; San Diego Regenerative Medicine Institute, San Diego, CA; T.G.V. Rockets, Inc., Washington, DC; BioCircuit Technologies, Inc., Atlanta, GA; C16 Biosciences, Inc., New York, NY; Cauldron Molecules, Inc., San Antonio, TX; DSM Nutritional Products LLC, Plainsboro, NJ; National Center for Defense Manufacturing and Machining, Johnstown, PA; OMP Logistics Corp., Paramus, NJ; ReElement Technologies LLC, Fishers, IN; Ring of Fire Metals Pty Ltd, Toronto, CANADA; Songhi Innovations, Fountain, CO; SRL Metals Pty Ltd, Melbourne, AUSTRALIA; Systima Technologies, Inc., Mukilteo, WA; Tandem Repeat Technologies, Inc., State College, PA; Creaform USA, Inc., Irvine, CA; DM3D Technology LLC, Auburn Hills, MI; Eagle Minerals West LLC, Atlanta, GA; Algenesis Corp., Cardiff, CA; Visolis, Inc., Hayward, CA; The Better Meat Co., West Sacramento, CA; Capital Composites, San Diego, CA; Cyclic Materials, Inc., New York, NY; Danimer Bioplastics, Inc., Bainbridge, GA; Debut Biotechnology, Inc., San Diego, CA; Industrial Microbes, Inc., Alameda, CA; McIntosh Technologies Consulting, Snohomish, WA; AstroForge, Inc., Huntington Beach, CA; Up Doppler Consulting LLC, Leonardtown, MD; ZymoChem, Inc., San Leandro, CA; Perfect Day, Inc., Berkley, CA; Cerebral Energy LLC, Keller, TX; Gecko Robotics, Pittsburgh, PA; INV Associates LLC, Scarsdale, NY; Advanced Composite Products and Technology, Inc., Huntington Beach, CA; Armtec Defense Products Co., Coachella, CA; Wright Electric, Inc., Malta, NY; Nuvu Cameras, Inc., Montreal, CANADA; Decisive Point LLC, Cold Spring, NY; Erg Bio, Inc., Dublin, CA; Fastcom Supply Corp., Franklin Lakes, NJ; Genomatica, Inc., San Diego, CA; Hathr LLC, Springfield, VA; Marcantonio Global LLC, Alexandria, VA; The Fynder Group, Inc., Chicago, IL; Dmaterial IP LLC, Bedford Park, IL; GreenSight, Boston, MA;

American Flowform Products LLC, Billerica, MA; American Society for Testing and Materials d/b/a ASTM International, West Conshohocken, PA; Atomic Machines, Inc., Berkeley, CA; Wecoso, Inc., Huntington Beach, CA; Wodin, Inc., Bedford Heights, OH; XR 2 LEAD LLC, Dumfries, VA; Pacific Scientific Energetics Materials Company (California LLC), Hollister, CA; Rhea Space Activity, Inc., Washington, DC; Stephenson Endeavors Corp., Shreveport, LA; Stephenson Stellar Corp., Shreveport, LA; BioWell, Houston, TX; Evans & Chambers Technology LLC, Arlington, VA; Faxon Machining LLC, Cincinnati, OH; Federal Foundry LLC, Arlington, VA; Gamma Alloys, Inc., Valencia, CA; GeoCognition, Frederick, CO;

HAAS, Inc., Chicago, IL; Helicon Chemical Company LLC, Orlando, FL; IE Workplace Solutions LLC, Spring, TX; MeasuredRisk, Inc., Paeonian Springs, VA; Wichita State University, Wichita, KS; NBS Technology Consulting LLC, Jacksonville Beach, FL; Rare Earth Salts Separations and Refining LLC, Beatrice, NE; Sintavia, Hollywood, FL; Channel Logistics LLC, Miami, FL; Cummings Aerospace, Inc., Huntsville, AL; Firehawk Aerospace, Inc., Addison, TX;

L3Harris Fuzing and Ordnance Systems, Inc., Cincinnati, OH; WingXpand, Inc., St. Louis, MO; BGT Aerospace LLC, Freeland, MI; EngeniusMicro LLC, Huntsville, AL; AKG Advisory Services, Bridgeville, PA; Americarb, Inc., Niagara Falls, NY; Packet Digital LLC, Fargo, ND; Safaricross, Westerville, OH; SB Boron Corp., Bellwood, IL; The Saskatchewan Research Council, Saskatoon, CANADA; Castheon, Inc., Thousand Oaks, CA; Clara Foods Company d/b/a The EVERY Company, Daly City, CA; Eco Building Corp. d/b/a Emerging Technology Institute, Red Springs, NC; Fibre-Tech USA, Stamford, CT; Firestorm Labs, Inc., San Diego, CA;

Green Edge Computing Corp., Vancouver, CANADA; Alentic Microscience, Inc., Halifax, CANADA; 327 Solutions, Inc., Paoli, PA; Syzygy Integration LLC, Conshohocken, PA; Bluefusion, Inc., Boston, MA; DDM Systems, Inc., Atlanta, GA; Eutectix LLC, Troy, MI; Hythe Research LLC, Havre de Grace, MD; Advanced Materials Manufacturing LLC, Raleigh, NC; American Lightweight Materials Manufacturing Innovation Institute, Detroit, MI; VanDeMark Chemical, Inc., Lockport, NY; ReBuild Manufacturing Solutions LLC, Framingham, MA;

Relativity Space, Long Beach, CA; SMI Solutions, Inc., Huntington, WV; Designed Precision Castings, Inc., Brampton, CANADA; Fortune Minerals Limited, London, CANADA; Globe Engineering Company, Inc., Wichita, KS; Kord Technologies LLC, Huntsville, AL; Allied Logistics LLC, Summerville, SC; Australian Strategic Materials Ltd., Perth, AUSTRALIA; Utron Kinetics, Manassas, VA; VeriTX Corp., Amherst, NY; R.E. Darling Co., Inc., Tucson, AZ; General Atomics, San Diego, CA; AForge LLC, Alexandria, VA; Ambri, Inc., Marlborough, MA; Amsted Graphite Materials LLC, Anmoore, WV; York Laboratories LLC, York, PA; Nextfed Insights, Inc., Arlington, VA; Quickstep Technologies Pty Ltd., Bankstown Aerodome, AUSTRALIA; Resin Solutions LLC, Hermosa Beach, CA; HRL Laboratories, Malibu, CA; Hypercomp Engineering, Inc., Brigham City, UT; BAE Systems Information and Electronic Integration, Inc., Nashua, NH; Safire Technology Group, Inc., Tysons, VA; Scale Free Solutions LLC, Keyser, WV; Edison Welding Institute, Inc., Columbus, OH; EnPower, Inc., Indianapolis, IN; FormAlloy Technologies, Inc., Spring Valley, CA; Freeform Future Corp., Hawthorne, CA; McIlvenna Bay Operating Ltd., Vancouver, CANADA; Alchemy Geopolymer Solutions LLC, Ruston, LA; Soldier Systems D-MIL LLC, Gilsum, NH; Umbra Lab, Inc., Santa Barbara, CA; Beehive Industries LLC, Centennial, CO; Cailabs US, Inc., Washington, DC; Cytec Engineered Materials, Inc., Alpharetta, GA; Elk Creek Resources Corp., Centennial, CO; International TechneGroup, Inc., Milford, OH; KEF Robotics, Pittsburgh, PA; Alkemix Corp., Laguna Hills, CA; Perrarus Solutions, Inc., Newport News, VA; Rare Element Resources, Inc., Highlands Ranch, CO; Heal R World LLC, Somerville, NJ; Joe Gibbs Manufacturing Solutions LLC, Huntersville, NC; ATC Alliance, Seattle, WA; Neo Performance Materials, Inc., Toronto, CANADA; Next Rung Technology LLC, Somerville, MA; 12031507 Canada, Inc. d/b/a Ribbit, Toronto, CANADA; Thales Australia Ltd., Sydney, AUSTRALIA; Clark Street Associates LLC, Los Altos, CA; Aviation Resources and Consulting Services d/b/a ARCS Aviation, Cookeville, TN; Vulcan Elements LLC, Cambridge, MA; Optimax Systems, Inc., Ontario, NY; SkyWater Technology Foundry, Inc., Bloomington, MN; TechNext, Inc., Richmond, MA; Thaler Machine Company LLC, Springboro, OH; Fastech LLC, Danville, VA; Liberty Ion LLC, Houston, TX; Lithos Industries, Inc. d/b/a Element3, Fort Worth, TX; Aeon Industrial, Inc., Austin, Tx; Avio USA, Inc., Arlington, VA; P.W.R Performance Products Pty Ltd., Ormeau, AUSTRALIA; SAS Manufacturing LLC, Boulder, CO; Syndicate 708 LLC, Poway, CA; InnovateX Pty Ltd., Greenbank, AUSTRALIA; Kennecott Utah Copper LLC, South Jordan, UT; PCC Rollmet, Inc., Irvine, CA; 3D Systems Inc., Rock Hill, SC; Tex-Tech Coatings LLC, Kernersville, NC; TTM Technologies, INC., Santa Ana, CA; C&R Racing, Inc., Indianapolis, IN; ICF Mercantile LLC, Warren, NJ; Blue Whale Materials LLC, Washington, DC; Corning Research & Development Corp., Corning, NY; E3 Lithium Ltd., Calgary, CANADA; LandFillter, Inc., Lake Wales, FL; BAE Systems Space & Mission Systems, Inc., Boulder, CO; Carnegie Mellon University, Pittsburgh, PA; Compusult Ltd., Mount Pearl, CANADA; KVG LLC, Gettysburg, PA; Avadain, Inc., Eads, TN; Polemarchoi, Inc., Alexandria, VA; Rio Tinto Services, Inc., South Jordan, UT; Honeywell International, Inc., Clearwater, FL; Veterans Legacy Health Alliance, Inc., Houston, TX; Sensor Technology Ltd., Collingwood, CANADA; Steel Founders' Society of America, Crystal Lake, IL; BAE Systems, Inc. Ordnance Systems, Kingsport, TN; Divergent Technologies, Inc., Torrance, CA; Lux Precision Manufacturing LLC, Phoenix, AZ; Valdos Consulting LLC, Coraopolis, PA; Charles River Analytics, Inc., Cambridge, MA; KoBold Metals Company, Berkeley, CA; Allihies Engineering, Inc., Butte, MT; Teck Resources Limited, Vancouver, CANADA; Carbon-Carbon Advanced Technologies, Inc., Arlington, TX; Lumieres Adventure (2002), Inc., Beaconsfield, CANADA; Midwest Printed Circuit Services, Inc., Round Lake Beach, IL; Phoenix Semiconductor Corp., Austin, TX; ReLogic Research, Inc., Huntsville, AL;

Mighty Waves Energy, Inc., Gaithersburg, MD; OLEDWorks LLC, Rochester, NY; Toray Composite Materials America, Inc., Tacoma, WA; Tungsten West PLC, Plymouth, UNITED KINGDOM; Curators of the University of Missouri, Columbia, MO; Hadrian Automation, Inc., Torrance, CA; Altec, Inc., Natick, MA; Purdue Applied Research Institute LLC, West Lafayette, IN; Barium & Chemicals, Inc., Steubenville, OH; Global Military Products, Inc., Tampa, FL; Global Resonance Technologies LLC, Shelburne, VT; Integral Engineering Group LLC, Knoxville, TN; Advanced Magnet Lab, Inc., Melbourne, FL; Altilium Group Ltd., London, UNITED KINGDOM; CAS, a division of the American Chemical Society, Washington, DC; Anovion LLC, Chicago, IL; Townsend Communications, Inc., Kansas City, MO; Hanwha Defense USA, Inc., McLean, VA; Avishtech, Inc., San Jose, CA; Molten Industries, Inc., Oakland, CA; Spectral Labs, Inc., San Diego, CA; Evolution Metals and Mining Technologies LLC, Haverford, PA; Higher Ground LLC, Palo Alto, CA; Huang Recoilless LLC, Fremont, CA; Kopin Corp., Westborough, MA; Navitas Advanced Solutions Group LLC, Ann Arbor, MI; Polaron Technologies, Inc., Miamisburg, OH; SCATR Corp., Cleveland, OH; Soelect, Inc., Greensboro, NC; Special Mine Services, Inc., West Frankfort, IL; ChemCubed LLC, Nesconset, NY; Decryptor, Inc., Richardson, TX; Empirium, Inc., Encinitas, CA; EXO Insights Corp., Waterloo, CANADA; FlexTech Alliance, Inc. d/b/a NextFlex, San Jose, CA; Marotta Controls, Inc., Montville, NJ; Amaero Advanced Materials and Manufacturing, Inc., McDonald, TN; Calca Solutions LLC, Westlake, LA; Chemicals, Inc., Baytown, TX; EVelution Energy LLC, Yuma, AZ; IBC Materials and Technologies LLC, Lebanon, IN; Image Insight, Inc., East Hartford, CT; Alaska Range Resources, Palmer, AK; Epirus, Inc., Torrance, CA; Altana Technologies USG, Inc., Washington, DC; Pulse Space, Inc., Bellevue, WA; Scot Forge Co, Spring Grove, IL; Source Energy Company, Longmont, CO; SparkCognition Government Systems, Inc., Austin, TX; TwinTech Materials, Inc., Framingham, MA; AutoMap LLC, Pittsburgh, PA; US Iron Holdings LLC, Santa Rosa Beach, FL; Symbiosis.io LLC, Smyrna, GA; Capacitor Metals Corp., Vancouver, CANADA; Commerce Resources Corp., Vancouver, CANADA; General Electric Company, Evendale, OH; Lattice Semiconductor Corp., Hillsboro, OR; Maxar Space Robotics LLC, Pasadena, CA; RBC Bearings Aircraft Products, Inc., Torrington, CT; Systems Innovation Engineering LLC, Mullica Hill, NJ; Energy Exploration Technologies, Austin, TX; Formation Holdings US, Inc., Salmon, ID; American Rheinmetall Systems, Biddeford, ME; Tunica-Biloxi Services LLC, Mansura, LA; FITILA PLLC, Chicago, IL; Molecular Rebar Design LLC, Austin, TX; OptiCOMP Networks, Attleboro, MA;

Besxar Space Industries, Inc., Inglewood, CA; FEA Materials LLC, Westborough, MA; Haiku, Inc., Henderson, NV; Vulcankore pbc, North Attleboro, MA; Northstar Photonics LLC, San Jose, CA; Shee Atika Enterprises LLC, Sitka, AK; Society of Chemical Manufacturers and Affiliates, Inc., Arlington, VA; Cornerstone Chemical Company, Metairie, LA; ICON Technology, Inc., Austin, TX; Old Dominion University Research Foundation, Norfolk, VA; Shreenika Pioneering, San Diego, CA; Skylark Labs, Inc., Dover, DE; Sparton DeLeon Springs LLC, DeLeon Springs, FL; Strategic Marketing Innovations, Inc., Washington, DC; Fend, Inc., Arlington, VA; Hy-SET LLC, Kennedale, TX; International Graphite Ltd., North Perth, AUSTRALIA; Avalanche Energy Designs, Inc., Tukwila, WA; Wilder Systems, Inc., Austin, TX; Mosaic Microsystems LLC, Rochester, NY; Next Gen Tech Solutions LLC, Wesley Chapel, FL; Schaeffler Aerospace USA Corp., Danbury, CT; Target Arm, Inc., Ridgefield, CT; Celadyne Technologies, Chicago, IL; GelSana Therapeutics, Inc., Aurora, CO; Grid Aero, Inc., Pleasant Hill, CA; Vuecason, Inc., Santa Monica, CA; Poplicus Inc. d/b/a Govini, Arlington, VA; Stucan Solutions Corp., Leesburg, VA; Synergistic, Inc., New Baltimore, MI; DTP Thermoelectrics LLC, Pasadena, CA; Eastham Forge, Inc., Beaumont, TX; Empire Products, Inc., Yankton, SD; Integral & Open Systems, Inc., Ypsilanti, MI; ARM Institute, Pittsburgh, PA; Nikon AM Synergy, Inc., Long Beach, CA; Partsimony, Inc., Brooklyn, NY; Pronoia, Inc., Torrance, CA; Direct Kinetic Solutions, El Paso, TX; KYOCERA AVX Components Corp., Fountain Inn, SC; A.L. Philpott Manufacturing Extension Partnership d/b/a GENEDGE, Martinsville, VA; PTX LLC, Rockville, MD; JetCo Packaging Solutions LLC, Grand Rapids, MI; Precise Systems, Inc., Lexington Park, MD; The Board of Trustees of the University of Illinois, Urbana, IL; The Center for Regional Economic Competitiveness, Arlington, VA; The Mason & Hanger Group, Inc., Lexington, KY; Innovative Plastics and Molding, Inc., Grosse Ile, MI; Mining Innovation Rehabilitation and Applied Research Corp., Sudbury, CANADA; Accurate Circuit Engineering, Inc., Santa Ana, CA; American Ordnance LLC, Middletown, IA; Nation Ford Chemical Co., Fort Mill, SC; Cardinal Engineering LLC, Washington, DC; Green Battery Minerals, Inc., Vancouver, CANADA; Infiltron Software Suite LLC, Warner Robins, GA; MDA Geospatial, Inc., Richmond, CANADA; ARONETICS LLC, Westlake, OH; Missouri Cobalt LLC d/b/a US Strategic Metals, St. Louis, MO; Commonwealth Center for Advanced Manufacturing, Disputanta, VA; Electron Energy Corp., Landisville, PA; Elementum 3D, Inc., Erie, CO;

Elmet Technologies LLC, Lewiston, ME; ibLaunch Co., Quantico, VA; Mandrill, Inc., Dover, DE; Nelson Creek Holdings Pty Ltd., Brisbane, AUSTRALIA; ADA Technologies, Inc., Englewood, CO; Ares Strategic Mining, Inc., Delta, UT; Arrow Electronics, Inc., Purchase, NY; NextGen Aeronautics, Inc., Torrance, CA; Rocket Propulsion Systems, Kent, WA; Sparkz, Inc., Castro Valley, CA; Coogee Magnesium LLC, Ottawa, IL; East Coast Repair & Fabrication LLC, Newport News, VA; Liberty Moly LLC d/b/a Pathfinder Tonopah, Tonopah, NV; Lithios, Inc., Cambridge, MA; N! BIOMACHINES LTD., Burlington, CANADA; Palisades Australia Pty Ltd., Perth, AUSTRALIA; Cool Amps Corp., San Antonio, TX; Maher & Associates LLC, Forest Hill, MD; Advance Research and Technology Solutions, Inc., Simi Valley, CA; Albemarle U.S., Inc., Charlotte, NC; Arconic Corp., Pittsburgh, PA; TDA Magnetics LLC, Rancho Dominguez, CA; Battery Innovation Center, Newberry, IN; DemeTECH Corporation, Miami, FL; Atlantic Strategic Minerals LLC, Midlothian, VA; Nexgen Composites LLC d/b/a Nexgen Containers & Shelters, Summerville, SC; Rayen Westlake Consulting, Columbus, OH; Sharrow Engineering LLC, Shelby Township, MI; TAP Engineering LLC, Columbia, MD; Bioscale LLC, Lansing, MI; Lyten, Inc., San Jose, CA; Manufactured Assemblies Corp. LLC, Vandalia, OH; 5E Boron Americas LLC, Hesperia, CA; Public Spend Forum LLC, Washington, DC; Toffler Associates, Arlington, VA; Delaware Valley Industrial Resource Center, Philadelphia, PA; William Marsh Rice University, Houston, TX; Mulberry Magnetics, Inc., New York, NY; MACOM Technology Solutions, Inc., Lowell, MA; MaxAlton LLC, Seattle, WA; The Good Food Institute, Inc., Arlington, VA; Bechtel National, Inc., Reston, VA; Dynamic Systems and Research Corp., Albuquerque, NM; Engineering and Software Systems Solution, Inc., San Diego, CA; Exergi Predictive, Hugo, MN; Fabri, Inc., Boston, MA; GoHypersonic, Inc., Dayton, OH; Leonardo Electronics US, Inc., Tucson, AZ; Rangeview, Inc., El Segundo, CA; True Velocity LLC, Garland, TX; BCG Federal Corp., Washington, DC; Empower Equity, Inc., Ithica, NY; Frazer-Nash Consultancy Ltd., Leatherhead, UNITED KINGDOM; Metals Australia Ltd., West Perth, AUSTRALIA; Vision Products LLC, Campbell, CA; Torngat Metals Ltd., Montreal, CANADA; University of Arizona—Arizona Board of Regents, Tucson, AZ; Cirba Solutions LLC, Charlotte, NC; Digital Solid State Propulsion, Inc., Reno, NV; eMagin Corp., Hopewell Junction, NY; FPX Nickel Corp., Vancouver, CANADA; Integrated Consultants, Inc., San Diego, CA; Molyworks Material Corp., Los Gatos, CA; Noblis Inc., Reston, VA; Northrop Grumman Systems Corporation—Weapons Systems, Rocket Center, WV; Polymer Technologies, Inc., Clifton, NJ; Resodyn Acoustic Mixers, Inc., Butte, MT; BMNT, Inc., Palo Alto, CA; Cornwall Resources Ltd., Richmond Surrey, UNITED KINGDOM; General Matter, Inc., San Francisco, CA; HiTech Minerals, Inc., Reno, NV; Veteran Solutions Group LLC, Farmington Hills, MI; Qynergy Corp., Albuquerque, NM; ThermoAI, Inc., Alexandria, VA; Canoo Technologies, Inc., Justin, TX; Galvanix, Inc., Moreland Hills, OH; Irondequoit Carbon Co., LLC, Dover, DE; ManTech Advanced Systems International, Inc., Herndon, VA; AmeriCarbon Products LLC, Morgantown, WV; Oceaneering International Inc.—Marine Services Division, Chesapeake, VA; Rocky Research, Boulder City, NV; Scandium Canada Ltd., Montreal, CANADA; Bravura Information Technology Systems, Inc., Aberdeen, MD; Cummins, Inc., Columbus, IN; Agile Space Industries, Inc., Durango, CO; Seurat Technologies, Inc., Wilmington, MA; Silatronix, Inc., Madison, WI; Bendito Resources USA, Inc., Reno, NV; Ectron Corp., San Diego, CA; Graphite One (Alaska), Inc., Anchorage, AK; InventWood, Inc., Frederick, MD; American Lithium Energy Corp., San Diego, CA; METSS Corp., Westerville, OH; Advent Diamond, Inc., Scottsdale, AZ; Otava, Inc., Moorestown, NJ; Clemson University, Clemson, SC; CodeLock, Inc., Ashburn, VA; Forge Institute, Little Rock, AR; Guided Particle Systems, Inc., Pensacola, FL; ICD Alloys & Metals LLC, Winston-Salem, NC; Atomic Industries, Inc., Warren, MI; The Knudsen Institute, Chickasha, OK; Lawrence Technological University, Southfield, MI; Scout Discoveries Corp., Coeur D Alene, ID; Coulomb Technology, Inc., Meridian, ID; DMTC Ltd., Kew, AUSTRALIA; Forging Industry Association, Independence, OH; Katharos Holdings-USA, Inc., Wayne, PA; Magnetic Technologies Corp., Rochester, NY; One Nation Innovation, Columbia, SC; Tyfast Energy Corp., San Diego, CA; Schatz Bearing Corp., Poughkeepsie, NY; The Doe Run Resources Corp., Saint Louis, MO; University of North Dakota, Grand Forks, ND; Wing Inflatables, Inc., Lafayette, CA; OnSeen Marketing, Inc., London, OH; Sage Analytical Lab LLC, San Diego, CA; Barrday Corporation, Millbury, MA; Disa Technologies, Inc., Mills, WY; Michigan Technological University, Houghton, MI; APL Engineered Materials, Inc., Urbana, IL; Aversan, Inc., Mississauga, CANADA; Phoenix Tailings, Inc., Woburn, MA; Regents of the University of Idaho, Moscow, ID; Rolled-Ribbon Battery Company LLC, Austin, TX; Southern Cross Gold Ltd, Melbourne, AUSTRALIA;

Constellium Rolled Products Ravenswood LLC, Ravenswood, WV; Elementus Minerals LLC, Fort Lauderdale, FL; Exxon Mobil Corp., Spring, TX; Field Viewers, Inc., Austin, TX; Global Tungsten & Powders LLC, Towanda, PA; Gopher Resource LLC, Eagan, MN; Great Lakes Crystal Technologies, Inc., East Lansing, MI; HyProMag USA LLC, Newark, NJ; Ashland Foundry and Machine Works LLC, Ashland, PA; Valbruna Slater Stainless, Inc., Fort Wayne, IN; Weber State University, Ogden, UT; Mott Corp., Farmington, CT; Phillips Corp., Hanover, MD; SunFire America LLC, Mesa, AZ; Ghostworks Marine, Inc., Holland, MI; Lattice Materials LLC, Bozeman, MT; Minerva Lithium LLC, Greensboro, NC; American Tool & Mold, Inc., Clearwater, FL; Naval & Maritime Consortium, Inc., Groton, CT; Systems & Technology Research LLC, Woburn, MA; Technology Holding LLC, West Valley, UT;

The Charles Stark Draper Laboratory, Inc., Cambridge, MA; Umicore Optical Materials USA, Inc., Quapaw, OK; Denison Industries, Inc., Denison, TX; KYOCERA AVX Components (Erie) Corp., Erie, PA; Ameliorate Electronics Solutions LLC, Kent, WA; Australian Resource Company Pty Ltd., Darwin, AUSTRALIA; USA Rare Earth LLC, Tampa, FL; Verne, Inc., San Francisco, CA; WAB US Corp., Allendale, NJ; Natrion, Inc., Champaign, IL; The University of Central Florida Board Of Trustees, Orlando, FL; Trustees of Tufts College, Inc., Somerville, MA; Big Blue Technologies, Inc., Cheyenne, WY; Fairmount Technologies LLC, Wichita, KS;

Femtosense, Inc., San Bruno, CA; Katz Water Technologies, Inc., Houston, TX; Veramaris USA LLC, Blair, NE; Yorchip, Inc., San Ramon, CA; Pure Lithium Corp., Charlestown, MA; Quality Maritime Surveyors Pty Ltd., Osborne, AUSTRALIA; Redpoint Engineering, Inc., Beavercreek, OH; RYVID, Inc., Irvine, CA; The Indium Corporation of America, Clinton, NY; Excet, Inc., Lexington Park, MD; International Centers for Telecommunication Technology, Inc., Terre Haute, IN;

Kernal Biologics, Inc., Cambridge, MA; Lost River Mining, Inc, Milwaukee, WI; Micronic Technologies, Inc., Bristol, VA; Autonomous Defense Technologies Corp d/b/a Swarm Aero, Oxnard, CA; Peak Nano Optics LLC, Macedonia, OH; ProChem, Inc., Rockford, GA; Rincell Corp., Sunnyvale, CA; Stratin LLC, Los Angeles, CA; Estes Energy Solutions, Inc., San Francisco, CA; Focus Graphite, Inc., Kingston, CANADA; Green Lyon Group, Inc., Beverly, MA; JETZERO, INC., Long Beach, CA; Kairos Industrial LLC, Union Grove, AL; MACH-20 LLC, Alexandria, VA; AEsir Technologies, Inc., Joplin, MO;

AIVOT Robotics, Inc., Seattle, WA; Anthro Energy, Inc., San Jose, CA; Associated Universities, Inc., Vienna, VA; VJ Technologies, Inc., Bohemia, NY; North Star Manganese, Inc., Minneapolis, MN; Pod Network LLC, Manhattan Beach, CA; Principal Mineral Co., Inc., Southlake, TX; Resolution Copper Mining LLC, Superior, AZ; Spirit AeroSystems, Inc., Wichita, KS; Ecograf Ltd., West Perth, AUSTRALIA; Hampton Roads Maritime Training Academy, Newport News, VA; HAMR Industries LLC, Clinton, PA; Keystone Mines, Inc., Mariposa, CA; Kyocera SLD Laser, Inc., Goleta, CA; Mach Industries, Inc., Austin, TX; Metis Endeavor LLC, Southlake, TX; Alcoa USA Corp., Pittsburgh, PA; US Carbon Company LLC, San Diego, CA; Powerex, Inc., Youngwood, PA; Prairie Lithium Corp., Emerald Park, CANADA; Precision Additive Solutions, Inc., Carmel, IN; Reading Alloys LLC, Robesonia, PA; Solonian Resources LLC, Mishawaka, IN; SteriO3 LLC, Littleton, CO; SubAzimuth LLC, Chelmsford, MA; Synopsys, Inc., Sunnyvale, CA; Triton Systems, Inc., Chelmsford, MA; Eagle Ridge Resources, Inc., Lakewood, NJ; Ernst & Young LLP, New York, NY; Ethereal Space, Inc., Greenwood Village, CO; Exec One, Trabuco Canyon, CA; GreenTaxi, Inc., Plano, TX; Hepburn and Sons LLC, Manassas, VA; ISEEYOU360, Inc., Coalgate, OK; LEAP Manufacturing LLC, Austin, TX; 6K Additive LLC, Burgettstown, PA; 6K Energy LLC, North Andover, MA; Atomic Semi, Inc., Palo Alto, CA; Premier Precision Machining LLC, Falconer, PA; SkyWatch Space Applications, Inc., Kitchener, CANADA; Stillwater Critical Minerals Corp., Vancouver, CANADA; Triera Biosciences Ltd., Guelph, CANADA; Board of Regents of the University of Nebraska for the University of Nebraska, Lincoln, NE; Collins Aerospace, Inc., Cedar Rapids, IA; Link Battery Technology, Inc., Houston, TX; Magnesium Innovation Group, Inc., Carmel, IN; Microchip Technology, Inc., Chandler, AZ; Nonye Global Safety Group LLC, Grosse Pointe Farms, MI; PBF Holding Company LLC, Parsippany, NJ; Simplymeats Traceable Distribution, Inc., Bronx, NY; SPEE3D, Inc., Wilmington, DE; Fornux, Gatineau, CANADA; Jitx, Inc., Berkeley, CA; Magnus Innovative Technologies, Inc., Barrie, CANADA; Viable Power Conversion Technologies, Inc., Pointe Claire, CANADA; Vuzix Corp., West Henrietta, NY; Mithril Defense, Inc., Austin, TX; Nanotech Energy, Inc., Chico, CA; Nautilus Defense LLC, Pawtucket, RI; One Kappa Corp., East Amherst, NY; Quality Analytics Associates, Inc., Bono, AZ; The Provenance Chain Network, Portland, OR; Deterrence Defense, Inc., Denver, CO; EnerSys Advanced Systems, Inc., Pinellas Park, FL; Exsolve, Inc., Minneapolis, MN; IperionX Technology LLC, Charlotte, NC; IQE, Inc., Bethlehem, PA; Marand U.S. Holdings LLC, Fort Worth, TX; Maverick BioMetals, Inc., San Antonio, TX; Alaska Energy Metals Development Corp., Anchorage, AK; St Charles Community College, Cottleville, CO; Electroflow Technologies, Inc., Burlingame, CA; Gambit Defense, Inc., Valley Village, CA; ACME AtronOmatic LLC, Orlando, FL;

ALTIVIA Specialty Chemicals LLC, Houston, TX; USA Rare Earth Magnets LLC, Stillwater, OK; Southwest Steel Casting Company LLC, Longview, TX; Supernova Industries Corp., Austin, TX; Battery Grade Materials, Inc., Joplin, MO; Green Graphite Technologies, Inc., Montréal, CANADA; Yankee Casting Co, Inc., Enfield, CT; ALL.SPACE Networks, Inc., Melbourne, FL; CHEMOURS CO FC LLC, Wilmington, DE; Felix Machines LLC, Beaverton, OR; Valbruna ASW, Inc., Welland, CANADA; Defense Engineering Services LLC, Ladson, SC;

Innovative Materials and Processes, Inc., Rapid City, SD; Americas Rare Earth Corp., Pittston, PA; NewMarket Corp., Richmond, VA; TW Metals, Inc., Carol Stream, IL; Grand Valley Manufacturing Co., Titusville, PA; Arc Boat Co., Torrance, CA; Silicon Rapid Arc Welding Contracting & Services, Inc., Humble, TX; Eastman Kodak Co., Rochester, NY; Advanced Functional Fabrics of America, Inc., Cambridge, MA; Vibram Corp., North Brookfield, MA; YKK (U.S.A.), Inc., Macon, GA; General Biological Corp., New Haven, CT; 3M, St. Paul, MN; Pathfinder Development Corp., Tonopah, NV; RZ Resources Ltd., Brisbane, AUSTRALIA; Authentise, Inc., Philadelphia, PA; Ridgeline Elements LLC, Little Rock, AR; Rio Tinto Alcan, Inc., Montreal, CANADA; BladeX Technologies LLC, Palos Verdes Estates, CA; Northcliff Resources Ltd., Vancouver, CANADA; JLMillan Consulting LLC, Evans, GA; Material Security, Inc., San Francisco, CA; New Culture, Inc., San Leandro, CA; RTX d/b/a Pratt & Whitney, East Hartford, CT; Marvell Government Solutions LLC, Burlington, VT; and Applied Research Associates, Inc., Albuquerque, NM have withdrawn as parties to this venture.

No other changes have been made in either the membership or planned activity of the group research project. Membership in this group research project remains open, and DIBC intends to file additional written notifications disclosing all changes in membership.

On February 21, 2024, DIBC filed its original notification pursuant to section 6(a) of the Act. The Department of Justice published a notice in the Federal Register pursuant to section 6(b) of the Act on June 24, 2024 (89 FR 52508).

The last notification was filed with the Department on June 28, 2024. A notice was published in the Federal Register pursuant to section 6(b) of the Act on September 17, 2024 (89 FR 75564).

Suzanne Morris,
Deputy Director Civil Enforcement Operations, Antitrust Division.

[FR Doc. 2025-01712 Filed 1-23-25; 8:45 am]

BILLING CODE 4410-11-P